DEPARTMENT OF TRANSPORTATION

Federal Aviation Administration

Notice of Passenger Facility Charge (PFC) Approvals and Disapprovals

AGENCY: Federal Aviation Administration (FAA), DOT.

ACTION: Monthly Notice of PFC Approvals and Disapprovals. In July 2011, there were two applications approved. This notice also includes information on two applications, approved in June 2011, inadvertently left off the June 2011 notice. Additionally, three approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: Dubuque Regional Airport Commission, Dubuque, Iowa.

Application Number: 11-11-C-00-DBQ.

Application Type: Impose and use a PFC.

PFC Level: $4.50.

Total PFC Revenue Approved in this Decision: $5,307,445.

Earliest Charge Effective Date: August 1, 2011.

Estimated Charge Expiration Date: February 1, 2033.

Class of Air Carriers Not Required To Collect PFC's: None.

Brief Description of Projects Approved for Collection and Use:

Construct terminal—design.

Construct terminal—construct.

Construct terminal—utility improvements.

Construct terminal—passenger terminal building.

Construct terminal—aircraft apron.

Construct terminal—landside facilities.

Construct terminal—airport service road.

Brief Description of Disapproved Project:

Runway 13/31 parallel taxiway.

Determination: The FAA's records showed that this project had previously been approved for collection of PFC revenue in decision 06-08-C-00-DBQ and for use of PFC revenue in decision 09-10-U-00-DBQ.

Decision Date: June 17, 2011.

FOR FURTHER INFORMATION CONTACT: Mark Schenkelberg, Central Region Airports Division, (816) 329-2645.

Public Agency: Burbank-Glendale-Pasadena Airport Authority, Burbank, California.

Application Number: 11-11-C-00-BUR.

Application Type: Impose and use a PFC.

PFC Level: $3.00.

Total PFC Revenue Approved in This Decision: $19,931,292.

Earliest Charge Effective Date: April 1, 2016.

Estimated Charge Expiration Date: November 1, 2018.

Class of Air Carriers Not Required To Collect PFC's: Nonscheduled/on demand air carriers filing FAA Form 1800-31.

Determination: Approved. Based on information contained in the public agency's application, the FAA has determined that the proposed class accounts for less than 1 percent of the total annual enplanements at Bob Hope Airport.

Brief Description of Project Partially Approved for Collection and Use: Regional intermodal transportation center.

Determination: Partially approved. The FAA determined that Attachment B project information submitted in the PFC application did not include a discussion of design costs for the project. Therefore, design costs were not included in the approved amount. The FAA also notes that the public agency withdrew two proposed project components from the project by letter dated June 21, 2011.

Decision Date: June 27, 2011.

FOR FURTHER INFORMATION CONTACT: Darlene Williams, Los Angeles Airports District Office, (310) 725-3625.

Public Agency: Burbank-Glendale-Pasadena Airport Authority, Burbank, California.

Application Number: 11-12-C-00-BUR.

Application Type: Impose and use a PFC.

PFC Level: $4.50.

Total PFC Revenue Approved in This Decision: $3,917,000.

Earliest Charge Effective Date: November 1, 2018.

Estimated Charge Expiration Date: April 1, 2019.

Class of Air Carriers Not Required To Collect PFC's: Nonscheduled/on demand air carriers filing FAA Form 1800-31.

Determination: Approved. Based on information contained in the public agency's application, the FAA has determined that the proposed class accounts for less than 1 percent of the total annual enplanements at Bob Hope Airport.

Brief Description of Projects Approved for Collection and Use at a $4.50 PFC Level:

Runway 8/26 runway end identifier lights conduit installation.

Acquisition of lighted portable runway closure crosses.

Infrastructure improvements to support security systems.

Terminal B improvements—public space.

Runway 33 safety area improvements.

Runway shoulder rehabilitation.

Runway 15 safety area improvements.

Fiber optic cable installation.

Airfield signage relocation.

Brief Description of Projects Approved for Collection and Use at a $3.00 PFC Level:

Public information display kiosks.

Wildlife hazard assessment study.

Interactive employee training module.

Blast fence extension—taxiway D.

Aircraft rescue and firefighting station rehabilitation.

Brief Description of Disapproved Projects:

Automatic external defibrillator equipment.

Relocation of airfield trash receptacle.

Triturator relocation.

Determination: The FAA determined that these projects did not meet a PFC objective under § 158.15(a). In addition, these projects do not meet the requirements of § 158.15(b).

Decision Date: July 15, 2011.

FOR FURTHER INFORMATION CONTACT: Darlene Williams, Los Angeles Airports District Office, (310) 725-3625.

Public Agency: Western Reserve Port Authority, Vienna, Ohio.

Application Number: 11-06-C-00-YNG.

Application Type: Impose and use a PFC.

PFC Level: $4.50.

Total PFC Revenue Approved in This Decision: $2,181,189.

Earliest Charge Effective Date: February 1, 2013.

Estimated Charge Expiration Date: February 1, 2030.

Class of Air Carriers Not Required To Collect PFCs: Nonscheduled/on demand air carriers filing FAA Form 1800-31.

Determination: Approved. Based on information contained in the public agency's application, the FAA has determined that the proposed class accounts for less than 1 percent of the total annual enplanements at Youngstown-Warren Regional Airport.

Brief Description of Projects Approved for Collection and Use:

PFC program administration.

Terminal security improvements.

Construction of winter material storage facility.

Rehabilitation of passenger boarding bridge.

Replacement and expansion of baggage delivery conveyor system.

Replacement of terminal boiler heating system.

Replacement of 10 inoperable/under capacity terminal air conditioning units.

Rehabilitation of terminal sanitary sewer system.

Replacement of terminal water line system.

Decision Date: July 18, 2011.

FOR FURTHER INFORMATION CONTACT: Alex Erskine, Detroit Airports District Office, (734) 229-2927.

Amendments to PFC Approvals
Amendment No., city, state | Amendment approved date | Original approved net PFC revenue | Amended approved net PFC revenue | Original estimated charge exp. date | Amended estimated charge exp. date
07-10-C-03-DSM Des Moines, IA | 06/29/11 | $9,175,000 | $9,547,773 | 08/01/17 | 08/01/17
01-04-C-01-MBS Freeland, MI | 07/11/11 | 1,999,052 | 566,875 | 07/01/06 | 07/01/06
06-09-C-02-JAX Jacksonville, FL | 07/20/11 | 231,806,084 | 234,003,597 | 10/01/23 | 02/01/24

Issued in Washington, DC on August 30, 2011.
Joe Hebert,
Manager, Financial Analysis and Passenger Facility Charge Branch.

[FR Doc. 2011-22891 Filed 9-8-11; 8:45 am]

BILLING CODE 4910-13-M